DEPARTMENT OF VETERANS AFFAIRS

Joint Biomedical Laboratory Research and Development and Clinical Science Research and Development Services Scientific Merit Review Board; Notice of Meeting

The Department of Veterans Affairs (VA) gives notice under Public Law 92-463 (Federal Advisory Committee Act) that the panels of the Joint Biomedical Laboratory Research and Development and Clinical Science Research and Development Services Scientific Merit Review Board will meet from 8 a.m. to 5 p.m. on the dates indicated below:

Panel | Date(s) | Location
Infectious Diseases-B | May 21, 2014 | American Association of Airport Executives.
Surgery | May 21, 2014 | Hampton Inn.
Nephrology | May 22, 2014 | American Association of Airport Executives.
Neurobiology-C | May 22, 2014 | Hampton Inn.
Aging and Clinical Geriatrics | May 28, 2014 | VA Central Office.*
Endocrinology-B | May 29, 2014 | The Liaison Capitol Hill.
Infectious Diseases-A | May 29, 2014 | Hampton Inn.
Neurobiology-D | May 30, 2014 | US Access Board.
Neurobiology-F | May 30, 2014 | VA Central Office.*
Cellular and Molecular Medicine | June 2, 2014 | VHA Conference Center.
Clinical Trials-A | June 2, 2014 | Hamilton Crowne Plaza.
Endocrinology-A | June 2, 2014 | US Access Board.
Neurobiology-B | June 3, 2014 | US Access Board.
Mental Health and Behavioral Sciences-A | June 4, 2014 | VHA Conference Center.
Epidemiology | June 5, 2014 | VA Central Office.*
Gulf War Research | June 5, 2014 | VA Central Office.*
Oncology-A | June 5-6, 2014 | American Association of Airport Executives.
Clinical Trials-B | June 6, 2014 | VA Central Office.*
Hematology | June 6, 2014 | US Access Board.
Neurobiology-A | June 6, 2014 | The Liaison Capitol Hill.
Pulmonary Medicine | June 6, 2014 | The Liaison Capitol Hill.
Gastroenterology | June 10, 2014 | Hampton Inn.
Special Panel for Genomics | June 10, 2014 | VA Central Office.*
Immunology-A | June 11, 2014 | Hampton Inn.
Cardiovascular Studies-A | June 12, 2014 | Hampton Inn.
Cardiovascular Studies-B | June 13, 2014 | Hampton Inn.
Neurobiology-E | June 13, 2014 | US Access Board.
Eligibility | July 21, 2014 | VHA Conference Center.
* Teleconference.

The addresses of the meeting sites are:

American Association of Airport Executives, 601 Madison Street, 3rd Floor, Alexandria, VA

Hamilton Crowne Plaza, 1001 14th Street NW., Washington, DC

Hampton Inn, 1729 H Street NW., Washington, DC

The Liaison Capitol Hill, 415 New Jersey Avenue NW., Washington, DC

US Access Board, 1331 F Street NW., 8th Floor, Washington, DC

VHA Conference Center, 2011 Crystal Drive, Arlington, VA

VA Central Office, 131 M Street NE., Washington, DC

The purpose of the Board is to provide advice on the scientific quality, budget, safety, and mission relevance of investigator-initiated research proposals submitted for VA merit review consideration. Proposals submitted for review by the Board involve a wide range of medical specialties within the general areas of biomedical, behavioral, and clinical science research.

The panel meetings will be open to the public for approximately one-half hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with title 5 U.S.C. 552b(c)(6) and (9)(B).

Those who plan to attend the general session or would like to obtain a copy of the minutes from the panel meetings and rosters of the members of the panels should contact Alex Chiu, Ph.D., Manager, Merit Review Program (10P9B), Department of Veterans Affairs, 810 Vermont Avenue NW., Washington, DC 20420, at (202) 443-5672 or email at alex.chiu@va.gov.

Rebecca Schiller,
Advisory Committee Management Officer.

[FR Doc. 2014-07324 Filed 4-1-14; 8:45 am]

BILLING CODE P